DEPARTMENT OF THE INTERIOR

Fish and Wildlife Service

Draft Environmental Impact Statement for the Swanson River Satellites Natural Gas Exploration and Development Project

AGENCY: U.S. Fish and Wildlife Service, Interior.

ACTION: Notice of Availability.

SUMMARY: This notice advises the public that the Draft Environmental Impact Statement (DEIS) for the Swanson River Satellites Natural Gas Exploration and Development Project is available for public review. During the 60-day review and comment period, there will be two public hearings on the DEIS as described below. The DEIS evaluates the potential environmental impacts of constructing natural gas exploration and production facilities. The proposed project would be located in the northwest portion of the Kenai National Wildlife Refuge, Kenai Peninsula, Alaska, in the vicinity of the existing Swanson River oil and gas field. The U.S. Fish and Wildlife Service (USFWS) is the lead Federal agency in the environmental review process. The Bureau of Land Management (BLM) and U.S. Army Corps of Engineers (USACE) are serving as cooperating agencies. This notice is being furnished as required by the National Environmental Policy Act (NEPA) Regulations (40 CFR 1503.1) to invite comments from other agencies and the public on the content of the DEIS.

DATES: The public hearing dates are:

1. September 5, 2002, 7 p.m. to 9 p.m., Soldotna, Alaska.

2. September 17, 2002, 2 p.m. to 4 p.m., Washington, DC.

Written comments must be received by October 1, 2002.

ADDRESSES: The public hearing locations are:

1. Soldotna, Alaska—Aspen Hotel, 326 Binkley Circle, Soldotna, AK

2. Washington, DC—U.S. Fish and Wildlife Service, 4401 North Fairfax Drive, Room 200B, Arlington, VA

Comments should be addressed to: Brian Anderson, U.S. Fish and Wildlife Service, Division of Natural Resources, Stop 221,1011 E. Tudor Road., Anchorage, AK 99503.

FOR FURTHER INFORMATION CONTACT: Brian Anderson (907) 786-3379.

SUPPLEMENTARY INFORMATION: Union Oil Company of California d.b.a. Unocal has applied for a right-of-way grant to construct facilities, including roads, pipelines, drill pads, and other facilities necessary for exploration and production of natural gas resources within the Kenai National Wildlife Refuge, a Conservation System Unit established by the Alaska National Interest Lands Conservation Act (ANILCA) (Sec. 303, Pub. L. 96-487, 16 U.S.C.668dd). The right-of-way application is being evaluated under regulations at 43 CFR part 36 implementing Title XI of ANILCA, “Transportation and Utility Systems in and Across, and Access into, Conservation System Units in Alaska.”

The East Swanson River Satellite is approximately five miles east of the Swanson River Field (T8N, R8W, SM). The North Swanson River Satellite encompasses the Birch Hill Unit, and is located approximately three miles northeast of the northern Swanson River Field boundary (T9N, R9W, SM). Most of the surface estate within the project area is owned by the United States and is managed by the USFWS, although a portion of the surface estate involved has been conveyed to the Tyonek Native Corporation. The subsurface oil, gas, and coal mineral estate is owned by Cook Inlet Region Incorporated (CIRI), with the exception of the Birch Hill Unit, where these minerals are leased from the United States. Under Title XI, CIRI is entitled to adequate and feasible access to their valid inholdings for economic and other purposes, subject to reasonable regulations necessary to protect the natural and other values of the Refuge. Unocal has leased the natural gas development rights from CIRI and the United States.

Unocal proposes to develop natural gas exploration and production from up to two locations in the North Swanson River Satellite area, and up to two locations in the East Swanson River Satellite area. In addition to natural gas wells, a water well and drainage sump will be installed at each site. The satellite areas would be connected to the existing Swanson River Field infrastructure via a new 100-foot-wide road and pipeline corridor extending a total of approximately 12 miles. The corridor would accommodate a gravel road, primary and secondary products pipelines, a produced water disposal pipeline, and communications and electric power lines. Constructing the roads and pads would require approximately 278,600 cubic yards of gravel, which would be extracted from sources specified by the USFWS. A phased construction is proposed, beginning with roads and pads needed for natural gas exploration, and followed as necessary by installation of pipelines and other production facilities. In the event that exploration results do not warrant production, or at the conclusion of production activities, roads and pads would be restored according to a restoration plan approved by the USFWS.

Unocal has also applied for a Department of the Army permit under Section 404 of the Clean Water Act from the USACE, and notice of staking/permit to drill for existing Federal oil and gas leases from the BLM. Under Title XI of ANILCA, the USFWS, USACE, and BLM each has an independent decision regarding their authority over the proposed project, but that these decisions will be issued concurrently.

The DEIS evaluates the potential direct, indirect, and cumulative impacts of constructing the proposed project, and assesses reasonable alternatives that would protect the resources of the Refuge. The environmental review is being conducted in accordance with the requirements of NEPA (42 U.S.C. 4371 et seq.) as implemented by the Council on Environmental Quality regulations at 40 CFR 1500-1508, and the pertinent regulations of USFWS. Copies of the DEIS are available for public review at the following locations: Z.J. Loussac Public Library, Anchorage; Soldotna Public Library, Soldotna; and the Kenai Community Library, Kenai. The DEIS is also available online at http://alaska.fws.gov/refuges.cfm.

Dated: July 2, 2002.
David B. Allen,
Regional Director, Region 7, U.S. Fish and Wildlife Service.

[FR Doc. 02-19482 Filed 8-1-02; 8:45 am]

BILLING CODE 4310-55-P